DEPARTMENT OF COMMERCE

National Oceanic and Atmospheric Administration

National Centers for Coastal Ocean Science Draft Human Dimensions Strategic Plan (FY2008-FY2013)

AGENCY: National Oceanic and Atmospheric Administration (NOAA), Department of Commerce (DOC).

ACTION: Notice of availability and solicitation of public comments on the National Centers for Coastal Ocean Science Draft Human Dimensions Strategic Plan (FY2008-FY2013).

SUMMARY: NOAA publishes this notice to announce availability of the National Centers for Coastal Ocean Science Draft Human Dimensions Strategic Plan (FY2008-FY2013) for public comment.

DATES: Comments must be received before 11:59 p.m. EDT, March 19, 2007.

ADDRESSES: Electronic submission of comments via e-mail to nccos.hd@noaa.gov is preferred. Comments may also be sent by fax to (301) 713-4353 or mail to NOAA National Ocean Service, National Centers for Coastal Ocean Science, c/o Marybeth Bauer, Ph.D., 1305 East-West Highway, NOS HQTR Route N/SCI, Silver Spring, MD 20910. E-mail and fax comments should state “Comments” in the subject line.

FOR FURTHER INFORMATION CONTACT: Marybeth Bauer, Ph.D., by e-mail at nccos.hd@noaa.gov (preferred) or mail at NOAA National Ocean Service, National Centers for Coastal Ocean Science, 1305 East-West Highway, NOS HQTR Route N/SCI, Silver Spring, MD 20910 or phone at (301) 713-3020. E-mail requests for information should state “Request for Information” in the subject line. An electronic copy of the National Centers for Coastal Ocean Science Draft Human Dimensions Strategic Plan (FY2008-FY2013) is available at: http://coastalscience.noaa.gov/human/strategy/NCCOSDraftHDStrategicPlan.pdf.

SUPPLEMENTARY INFORMATION: NOAA's National Centers for Coastal Ocean Science (NCCOS) provides coastal resource managers, other decision makers, and stakeholders with the ecosystem information and tools needed to balance society's environmental, social, and economic goals in mitigating and adapting to stressors such as climate change, extreme natural events, pollution, invasive species, and resource use.

Humans are integral to ecosystems, and the human dimensions of ecosystems are an integral focus of the science NCCOS conducts and conveys. NOAA's Strategic Plan (FY2006-FY2011) (available at: http://www.ppi.noaa.gov/pdfs/STRATEGIC%20PLAN/Strategic_Plan_2006_FINAL_04282005.pdf) defines an ecosystem as a geographically specified system of organisms, including humans, the environment, and the processes that control its dynamics. An environment encompasses the biological, chemical, physical, and social conditions that surround organisms. The human dimensions of ecosystems can be expressed in terms of three points of interaction between environmental and human systems: human causes, consequences, and responses to environmental change. Encompassing a broad array of social science, humanities, and other disciplines, human dimensions research aims to understand these human-environmental interactions and facilitate use of this understanding to assist decisions affecting environmental processes and their societal outcomes.

NCCOS developed a Draft Human Dimensions Strategic Plan (FY2008-2013) to define and implement human dimensions research critical to support an ecosystem approach to the management of coastal and ocean resources. The plan expands a Societal Stressors Objective in NCCOS's Strategic Plan (http://coastalscience.noaa.gov/documents/strategicplan.pdf). The final Human Dimensions Strategic Plan will guide development of the NCCOS ecosystem science agenda, workforce, organizations, partnerships, and other capacities, including research conducted through extramural partners, grants, and contracts. Planning, programming, budgeting, and execution of NCCOS activities will reflect the objectives of the final plan through FY 2013.

The draft plan puts forth the following human dimensions goals and objectives. First, to provide human dimensions information essential to support an ecosystem approach to coastal and ocean resource management (Goal 1), the plan recommends identifying and characterizing stakeholders and their values (Objective 1.1), monitoring human dimensions (Objective 1.2), assessing and monitoring human causes of ecosystem stress (Objective 1.3), documenting traditional and local ecological knowledge (Objective 1.4), addressing value and ethical dimensions (Objective 1.5), and developing institutional strategies (Objective 1.6). Second, to provide integrated ecosystem information essential to support an ecosystem approach to coastal and ocean resource management, the plan recommends developing and operationalizing integrative information products and tools (Objective 2.1) and defining and implementing integrated ecosystem assessments (Objective 2.2). Third, to promote resilient ecosystems (Goal 3), the plan recommends assessing the cumulative impacts of hazards on coastal communities (Objective 3.1), assessing risk and vulnerability (Objective 3.2), developing risk communication strategies (Objective 3.3), and evaluating forecasting and other capabilities (Objective 3.4). Finally, to provide critical support (Goal 4), the plan recommends building essential organizational capacities (Objective 4.1) and developing communications, outreach, and educational strategies (Objective 4.2).

The purpose of this notice is to solicit comments on the Draft Human Dimensions Strategic Plan (FY2008-2013) to ensure the value of the final document for coastal and ocean resource science and governance. NCCOS encourages Federal and non-Federal government partners, resource managers, other decision makers, stakeholders, and other interested parties to submit comments. We especially encourage comments related to the value of the plan to support an ecosystem approach to the management of coastal and ocean resources, and its collaborative implementation.

To facilitate efficient and thorough consideration of all submissions, please format your comments as follows: (1) Background information on yourself, including name, title, organizational affiliation, and contact information including e-mail address; (2) general comments; and (3) specific comments with references to line numbers. Please follow all substantive, non-editorial comments with well-developed suggestions for revision. Please include identifying information at the top of all pages. The Draft NCCOS Human Dimensions Strategic Plan (FY2008-2013) is being issued for comment only and is not intended for interim use.

Gary C. Matlock
Director, National Center for Coastal Ocean Science.

[FR Doc. 07-1153 Filed 3-9-07; 8:45 am]

BILLING CODE 3510-JE-M